DEPARTMENT OF ENERGY

Federal Energy Regulatory Commission

[Docket No. AD20-7-000]

Reliability Technical Conference; Notice Postponing Technical Conference

Take notice that the technical conference scheduled for June 25, 2020, from 9:00 a.m. to 5:00 p.m. at the Federal Energy Regulatory Commission, 888 First Street NE, Washington, DC 20426, has been postponed due to health and safety concerns related to the Novel Coronavirus Disease (COVID-19) and will be rescheduled for a later date.

For more information about this technical conference, please contact Lodie White (202) 502-8453, Lodie.W.hite@ferc.gov.

Dated: April 2, 2020.
Kimberly D. Bose,
Secretary.

[FR Doc. 2020-07713 Filed 4-10-20; 8:45 am]

BILLING CODE 6717-01-P